DEPARTMENT OF ENERGY

Office of Energy Efficiency and Renewable Energy

Hydrogen and Fuel Cell Technical Advisory Committee (HTAC)

AGENCY: Department of Energy.

ACTION: Notice of open meeting.

SUMMARY: The Hydrogen and Fuel Cell Technical Advisory Committee (HTAC) was established under section 807 of the Energy Policy Act of 2005 (EPACT), Pub. L. No. 109-58; 119 Stat. 849. The Federal Advisory Committee Act, Pub. L. No. 92-463, 86 Stat. 770, requires that agencies publish notice of an advisory committee meeting in the Federal Register. To attend the meeting and/or to make oral statements during the public comment period, please e-mail HTAC@nrel.gov at least 5 business days before the meeting. Please indicate if you will be attending the meeting both days or a particular day, if you want to make an oral statement, and what organization you represent (if appropriate).

DATES: Tuesday, December 18, 2007, from 1 p.m.-6 p.m. and Wednesday, December 19, 2007, from 9 a.m.-3 p.m.

ADDRESSES: Crystal Gateway Marriott, 1700 Jefferson Davis Highway, Arlington, Virginia 22202.

FOR FURTHER INFORMATION CONTACT: HTAC@nrel.gov.

SUPPLEMENTARY INFORMATION: Purpose of the Meeting: To provide advice, information, and recommendations to the Secretary on the program authorized by Title VIII of EPACT.

Tentative Agenda (Subject to change; updates will be posted on http://hydrogen.energy.gov and copies of the final agenda will be available the date of the meeting). The following items will be covered on the agenda:

• Discussion of the December 18 Interagency Task Force meeting

• HTAC discussion of future Committee directions and focus areas

• Briefings on status and potential of hydrogen production from nuclear and coal (with carbon sequestration)

• Briefing on EPRI report on “Electricity Generation Technology Options for a Carbon Constrained World”

• Briefing on liability issues related to hydrogen and fuel cell technologies and options for transitional insurance coverage

• Overview of government-wide research addressing climate change and carbon dioxide emissions

• Next Steps

Public Participation: In keeping with procedures, members of the public are welcome to observe the business of the meeting of HTAC and to make oral statements during the specified period for public comment. The public comment period will take place between 1:30 p.m. and 2:30 p.m. on December 19, 2007. To attend the meeting and/or to make oral statements regarding any of the items on the agenda, e-mail HTAC@nrel.gov at least 5 business days before the meeting. Please indicate if you will be attending the meeting on both days or a particular day, if you want to make an oral statement, and what organization you represent (if appropriate). Members of the public will be heard in the order in which they sign up for the Public Comment Period. Oral comments should be limited to two minutes in length. Reasonable provision will be made to include the scheduled oral statements on the agenda. The Chair of the Committee will make every effort to hear the views of all interested parties and to facilitate the orderly conduct of business. If you would like to file a written statement with the Committee, you may do so either by submitting a hard copy at the meeting or by submitting an electronic copy to HTAC@nrel.gov.

Minutes: The minutes of the meeting will be available for public review at http://hydrogen.energy.gov.

Issued at Washington, DC, on November 27, 2007.
Rachel Samuel,
Deputy Committee Management Officer.

[FR Doc. E7-23359 Filed 11-30-07; 8:45 am]

BILLING CODE 6450-01-P